FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 15, 2019.

A. Federal Reserve Bank of Chicago (Colette A. Fried, Assistant Vice President) 230 South LaSalle Street, Chicago, Illinois 60690-1414:

1. John Scott Thomson, as trustee of both the John H. Thomson Residuary Trust and the FJT Grandchildren's Trust, John Scott Thomson and Stephanie Carol Thomson, as co-trustees of the Thomson Grandchildren's Trust, together with Stephanie Carol Thomson as co-trustee of the John Scott Thomson Family Trust, all of Cresco, Iowa; to retain voting shares of How-Win Development Co. and thereby to indirectly retain CUSB Bank, both of Cresco, Iowa.

Board of Governors of the Federal Reserve System, March 22, 2019.
Yao-Chin Chao,
Assistant Secretary of the Board.

[FR Doc. 2019-05862 Filed 3-26-19; 8:45 am]

BILLING CODE P